DEPARTMENT OF HEALTH AND HUMAN SERVICES

Health Resources and Services Administration

Advisory Commission on Childhood Vaccines; Notice of Meeting

AGENCY: Health Resources and Services Administration, HHS.

ACTION: Correction.

SUMMARY: The Health Resources and Services Administration published a notice in the Federal Register, 76 FR 27651 (May 12, 2011), announcing the meeting of the Advisory Commission on Childhood Vaccines, June 9-10, 2011, in the Parklawn Building (and via audio conference call), Conference Rooms G & H, 5600 Fishers Lane, Rockville, MD 20857.

Correction:

In the Federal Register, 76 FR 27651 (May 12, 2011), please make the following corrections:

In the Date and Time section, correct to read June 9, 2011, 1 p.m. to 5 p.m., EDT; June 10, 2011, 9 a.m. to 11 a.m., EDT.

In the Place section, correct to read via audio conference call only.

The ACCV will meet on Thursday, June 9, from 1 p.m. to 5 p.m. (EDT) and on Friday, June 10 from 9 a.m. to 11 a.m. (EDT). The public can join the meeting via audio conference call only, by dialing 1-800-369-3014 on June 9 and 10 and providing the following information:

Leader's Name: Dr. Geoffrey Evans.

Password: ACCV.

Dated: May 23, 2011.
Jennifer Riggle,
Deputy Director, Office of Management.

[FR Doc. 2011-13205 Filed 5-26-11; 8:45 am]

BILLING CODE 4165-15-P